DEPARTMENT OF TRANSPORTATION

Federal Aviation Administration

14 CFR Part 25

[Docket No. NM417; Notice No. 25-09-12-SC]

Special Conditions: Model C-27J Airplane; Class E Cargo Compartment Lavatory

AGENCY: Federal Aviation Administration (FAA), DOT.

ACTION: Notice of proposed special conditions.

SUMMARY: This action proposes special conditions for the Alenia Model C-27J airplane. This airplane has novel or unusual design features when compared to the state of technology described in the airworthiness standards for transport-category airplanes. These design features include a lavatory in the Class E cargo compartment. The applicable airworthiness regulations do not contain adequate or appropriate safety standards for these design features. These proposed special conditions contain the additional safety standards that the Administrator considers necessary to establish a level of safety equivalent to that established by the existing airworthiness standards. We have issued additional special conditions for other novel or unusual design features of the C-27J.

DATES: We must receive your comments by November 23, 2009.

ADDRESSES: You must mail two copies of your comments to: Federal Aviation Administration, Transport Airplane Directorate, Attn: Rules Docket (ANM-113), Docket No. NM417, 1601 Lind Avenue, SW., Renton, Washington 98057-3356. You may deliver two copies to the Transport Airplane Directorate at the above address. You must mark your comments: Docket No. NM417. You can inspect comments in the Rules Docket weekdays, except Federal holidays, between 7:30 a.m. and 4 p.m.

FOR FURTHER INFORMATION CONTACT: Tom Groves, FAA, International Branch, ANM-116, Transport Airplane Directorate, Aircraft Certification Service, 1601 Lind Avenue, SW., Renton, Washington 98057-3356; telephone (425) 227-1503, facsimile (425) 227-1149.

SUPPLEMENTARY INFORMATION:

Comments Invited

We invite interested people to take part in this rulemaking by sending written comments, data, or views. The most helpful comments reference a specific portion of the special conditions, explain the reason for any recommended change, and include supporting data. We ask that you send us two copies of written comments.

We will file in the docket all comments we receive, as well as a report summarizing each substantive public contact with FAA personnel concerning these special conditions. You can inspect the docket before and after the comment closing date. If you wish to review the docket in person, go to the address in the ADDRESSES section of this preamble between 7:30 a.m. and 4 p.m., Monday through Friday, except Federal holidays.

We will consider all comments we receive on or before the closing date for comments. We will consider comments filed late if it is possible to do so without incurring expense or delay. We may change these special conditions based on the comments we receive.

If you want the FAA to acknowledge receipt of your comments on this proposal, include with your comments a self-addressed, stamped postcard on which the docket number appears. We will stamp the date on the postcard and mail it back to you.

Background

On March 27, 2006, the European Aviation Safety Agency (EASA) forwarded to the FAA an application from Alenia Aeronautica of Torino, Italy, for U.S. type certification of a twin-engine, commercial transport designated as the Model C-27J. The C-27J is a twin-turbopropeller, cargo-transport aircraft with a maximum takeoff weight of 30,500 kilograms.

Type Certification Basis

Under the provisions of Section 21.17 of Title 14 Code of Federal Regulation (14 CFR) and the bilateral agreement between the U.S. and Italy, Alenia Aeronautica must show that the C-27J meets the applicable provisions of 14 CFR part 25, as amended by Amendments 25-1 through 25-87. Alenia also elects to comply with Amendment 25-122, effective September 5, 2007, for 14 CFR 25.1317.

If the Administrator finds that existing airworthiness regulations do not adequately or appropriately address safety standards for the C-27J due to a novel or unusual design feature, we prescribe special conditions under provisions of 14 CFR 21.16.

In addition to the applicable airworthiness regulations and special conditions, the C-27J must comply with the fuel-vent and exhaust-emission requirements of 14 CFR part 34 and the noise-certification requirements of 14 CFR part 36, and the FAA must issue a finding of regulatory adequacy under § 611 of Public Law 92-574, the “Noise Control Act of 1972.”

The FAA issues special conditions, as defined in 14 CFR 11.19, in accordance with § 11.38, and they become part of the type-certification basis under § 21.17(a)(2).

Special conditions are initially applicable to the model for which they are issued. Should the type certificate for that model be amended later to include any other model that incorporates the same or similar novel or unusual design feature, the special conditions also apply to the other model under § 21.101.

Novel or Unusual Design Features

The C-27J incorporates a lavatory into the Class E cargo compartment, which is considered a novel or unusual design feature in a cargo compartment. In developing the airworthiness requirements for cargo compartments, the FAA did not envision that a lavatory would be installed inside a Class E cargo compartment. Lavatories, including the one proposed for the C-27J, typically contain electrical systems, which could serve as ignition sources for a fire, and an oxygen supply system, which could intensify the growth and size of a fire. Therefore, consideration must be given to a means to control the possibility of the:

• Electrical system in the lavatory initiating a fire in the cargo compartment, and

• Oxygen-supply system in the lavatory fueling a fire in the cargo compartment.

The existing airworthiness regulations do not adequately or appropriately address safety standards for these design features. These proposed special conditions for the C-27J contain the additional safety standards that the Administrator considers necessary to establish a level of safety equivalent to that established by the existing airworthiness standards.

Discussion

Specific regulations governing Class E cargo compartments:

(a) Section 25.855, the material-standards and design considerations for cargo-compartment interiors; the statement that each cargo compartment must meet one of the Class requirements of § 25.857; and the flight testing which must be conducted for certification.

(b) Section 25.857, the standards for the various classes of transport-category airplane-cargo compartments.

(c) Section 25.858, design and certification requirements for cargo- or baggage-compartment fire or smoke-detection systems, and a standard that fire be detected and indicated to the crew less than one minute after inception.

Specific regulations governing lavatory installations, regardless of location:

(d) Section 25.783, requirements to preclude anyone from becoming trapped inside the lavatory.

(e) Section 25.791, lavatory placarding requirements.

(f) Section 25.853, interior material-test standards, smoking-prohibition requirements, ashtray requirements, and waste-receptacle design-and-material standards.

(g) Section 25.854, lavatory smoke-detector and fire-extinguisher requirements.

In developing the airworthiness requirements for cargo compartments, the FAA did not envision that a lavatory would be installed in a Class E cargo compartment. Therefore, special conditions must be established to provide a means to control the possibility of the:

• Electrical system in the lavatory initiating a fire in the cargo compartment, and

• Oxygen-supply system in the lavatory fueling a fire in the cargo compartment.

Applicability

As discussed above, these proposed special conditions are applicable to the C-27J. Should Alenia apply at a later date for a change to the type certificate to include another model incorporating the same or similar novel or unusual design features, these proposed special conditions apply to that model as well under § 21.101.

Conclusion

This action affects only certain novel or unusual design features of the Alenia C-27J. It is not a rule of general applicability, and it affects only the applicant that applied to the FAA for approval of these features on the airplane.

List of Subjects in 14 CFR Part 25

Aircraft, Aviation safety, Reporting and recordkeeping requirements.

The authority citation for these special conditions is as follows:

Authority: 49 U.S.C. 106(g), 40113, 44701, 44702, 44704.

The Proposed Special Conditions

Accordingly, the Administrator of the Federal Aviation Administration (FAA) proposes the following special conditions as part of the type-certification basis for the C-27J.

1. Control of electrical power to the lavatory located in the Class E cargo compartment:

A means must be provided to shut off electrical power to the lavatory should smoke or fire be detected anywhere in the Class E cargo compartment, including in the lavatory. Two types of shut-off systems meet this requirement:

• A manual system, with an airplane-flight-manual (AFM) procedure to instruct the flight crew on where and how to shut off the power, or

• An automatic system that shuts off power to the lavatory following a lavatory or cargo-compartment smoke-detector alarm.

2. Control of the oxygen-delivery-system flow to the lavatory and cargo compartment:

A means must be provided to shut off oxygen flow to the lavatory should smoke or fire be detected anywhere in the Class E cargo compartment, including in the lavatory. Two types of shut-off systems meet this requirement:

• A manual system, with an AFM procedure to instruct the flight crew on where and how to shut off the oxygen flow, or

• An automatic system that shuts off oxygen flow to the lavatory following a lavatory or cargo-compartment smoke-detector alarm.

Issued in Renton, Washington, on October 8, 2009.
Jeffrey E. Duven,
Acting Manager, Transport Airplane Directorate, Aircraft Certification Service.

[FR Doc. E9-25495 Filed 10-22-09; 8:45 am]

BILLING CODE 4910-13-P